DEPARTMENT OF ENERGY

Federal Energy Regulatory Commission

[CP07-395-000]

Wyoming Interstate Company, Ltd. (WIC); Notice of Intent to Prepare an Environmental Assessment for the Proposed Medicine Bow Expansion Project and Request for Comments on Environmental Issues

July 11, 2007.

The staff of the Federal Energy Regulatory Commission (FERC or Commission) will prepare an environmental assessment (EA) that will discuss the environmental impacts of constructing and operating Wyoming Interstate Company, Ltd.'s (WIC) proposed Medicine Bow Expansion Project.

The proposed Medicine Bow Expansion Project includes installation of one 24,930-horsepower (hp) turbine compressor unit with ancilliary facilities at the existing Douglas Compressor Station in Converse County, Wyoming, located on its Medicine Bow Pipeline System. The added compressor unit would enable WIC to create 330,000 dekatherms per day of additional capacity on its Medicine Bow Lateral System. WIC requests the Commission to grant its request by November 1, 2007 for a targeted in-service date of June 1, 2008.

A map depicting WIC's proposed facilities is provided in Appendix 1.¹

¹ The appendices referenced in this notice will not being printed in the Federal Register. Copies are available on the Commission's Web site (excluding maps) at www.ferc.gov or from the Commission's Public Reference Room—(202) 502-8371.

Construction would take place completely within the fenced-in compressor station site on about 8 acres. Operation of these facilities would require the permanent use of approximately 1.37 acres of industrial land.

The Environmental Assessment Process

The National Environmental Policy Act (NEPA) requires the Commission to consider the environmental impacts of a proposed project whenever it considers the issuance of a Certificate of Public Convenience and Necessity as has been requested by WIC. NEPA also requires the Commission to undertake a process to identify and address concerns the public may have about proposed projects. This process is commonly referred to as “scoping”. The main goal of the “scoping” process is to identify public concerns and then address them in the environmental assessment. By this Notice of Intent, the Commission requests public comments on environmental issues that should be addressed in the environmental assessment.

The Commission's staff will prepare an environmental assessment that will discuss the potential environmental impacts resulting from the proposed project under the following general headings:

• Geology and Soils.

• Water Resources and Wetlands.

• Fisheries, Vegetation and Wildlife.

• Threatened and Endangered Species.

• Air Quality and Noise.

• Land Use.

• Cultural Resources.

• Pipeline safety and reliability.

The Commission's staff will also evaluate possible alternatives to the proposed project or portions of the project and make recommendations on how to lessen or avoid impacts to the identified environmental resources.

Upon completion of the staff's environmental assessment and depending on the issues identified and/or comments received during the “scoping” process, the EA may be published and mailed to federal, state and local government agencies; elected officials; environmental and public interest groups; affected landowners; other interested parties; local libraries and newspapers; and the Commission's official service list for this proceeding. A 30-day comment period would be allotted for review of the EA if it is published. Staff would consider all comments submitted concerning the EA before making their recommendations to the Commission.

To ensure your comments are considered, please carefully follow the instructions in the public participation section of this notice.

Federal, state, or local agencies wishing to participate in the development of the environmental assessment may request “cooperating agency” status. Cooperating agencies are encouraged to participate in the scoping process and provide us with written comments concerning the proposed project. Cooperating agencies are also welcome to suggest format and content changes that will make it easier for them to adopt the EA; however, we will decide what modifications will be adopted in light of our production constraints. Agencies wanting to participate as a cooperating agency should send a letter describing the extent to which they would like to be involved in the development of this EA. Please submit these letters as indicated in the public participation section of this notice.

Public Participation

You can make a difference by providing us with your specific comments or concerns about the proposed project. By becoming a commentor, your comments and concerns will be addressed in the EA and considered by the Commission. The more specific your comments, the more useful they will be. Generally, comments are submitted regarding the potential environmental effects, reasonable alternatives and measures to avoid or lessen environmental impact.

This notice and request for environmental comments is being sent to affected landowners; federal, state and local government representatives and agencies; environmental and public interest groups; other interested parties in this proceeding; and local libraries and newspapers. We encourage government representatives to notify their constituents of this notice and to encourage their comments concerning this proposed project.

To ensure that your comments are properly recorded, please mail them to our office on or before August 10, 2007. When filing comments please:

• Send an original and two copies of your letter to: Kimberly D. Bose, Secretary, Federal Energy Regulatory Commission, 888 First St., NE., Room 1A, Washington, DC 20426.

• Label one copy of your comments to the attention of Gas Branch 2, DG2E; and Reference Docket No. CP07-032-000 on the original and both copies.

Please note that the Commission encourages the electronic filing of comments. To file electronic comments online please see the instructions ² on the Commission's Web site at www.ferc.gov. When filing electronic comments, prepare your submission in the same manner as you would if filing on paper and save it to a file on your hard drive. Please note before you can file electronic comments with the Commission you will need to create a free online account.

² 18 Code of Federal Regulations 385.2001(a)(1)(iii).

Environmental Mailing List

An effort has been made to send this notice to all individuals, organizations, and government entities that might be interested in and/or potentially affected by the proposed project. This includes all landowners who are potential right-of-way grantors, landowners whose property may be used temporarily for project purposes, and landowners with homes within distances defined in the Commission's regulations of certain aboveground facilities.

If you would like to remain on the environmental mailing list for this proposed project, please return the Mailing List Retention Form found in Appendix 2. If you do not comment on this project or return this form, you will be taken off of the staff's environmental mailing list.

Becoming an Intervenor

In addition to involvement in the EA scoping process, you may want to become an official party to the proceeding, an “intervenor”. To become an intervenor you must file a motion to intervene according to Rule 214 of the Commission's Rules of Practice and Procedure (18 CFR 385.214). Intervenors have the right to seek rehearing of the Commission's decision. Motions to Intervene should be electronically submitted using the Commission's eFiling system at www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Availability of Additional Information

Additional information about the project is available from the Commission's Office of External Affairs at 1-866-208-FERC (3372) or through the Commission's “eLibrary” which can be found online at www.ferc.gov. For assistance with the Commission's “eLibrary”, the helpline can be reached at 1-866-208-3676, TTY (202) 502-8659, or at FERCOnlineSupport@ ferc.gov.

In addition, the FERC now offers a free service called eSubscription that allows you to keep track of all formal issuances and submittals in specific dockets. This can reduce the amount of time you spend researching proceedings by automatically providing you with notification of these filings, document summaries, and direct links to the documents. To register for this service, go to www.ferc.gov/esubscribenow.htm.

If applicable, public meetings or site visits associated with this proposed project will be posted on the Commission's calendar which can be found online at www.ferc.gov/EventCalendar/EventsList.aspx.

Kimberly D. Bose,
Secretary.

[FR Doc. E7-13873 Filed 7-17-07; 8:45 am]

BILLING CODE 6717-01-P